DEPARTMENT OF COMMERCE

National Oceanic and Atmospheric Administration

RIN: 0648-XS63

Mid-Atlantic Fishery Management Council; Public Meetings

AGENCY: National Marine Fisheries Service (NMFS), National Oceanic and Atmospheric Administration (NOAA), Commerce.

ACTION: Notice of public meetings.

SUMMARY: The Mid-Atlantic Fishery Management Council's (MAFMC) Summer Flounder Monitoring Committee, Scup Monitoring Committee, Black Sea Bass Monitoring Committee, and the Mid-Atlantic Fishery Council's and the Atlantic States Marine Fisheries Commission's Summer Flounder, Scup, and Black Sea Bass Advisors will hold public meetings.

DATES: The meetings will be held on Wednesday, November 18, 2009 beginning at 9 a.m. with the Monitoring Committees. The Advisory Panels will begin meeting at 1 p.m. See SUPPLEMENTARY INFORMATION for meeting agenda.

ADDRESSES: The meetings will be held at the Hilton Philadelphia Airport Hotel, 4509 Island Ave., Philadelphia, PA 19153; telephone: (215) 365-4150).

Council address: Mid-Atlantic Fishery Management Council, Room 2115, 300 S. New Street, Dover, DE 19904; telephone: (302) 674-2331.

FOR FURTHER INFORMATION CONTACT: Daniel T. Furlong, Executive Director, Mid-Atlantic Fishery Management Council; telephone: (302) 674-2331, extension 19.

SUPPLEMENTARY INFORMATION: The purpose of these meetings is to recommend the 2010 recreational management measures for the summer flounder, scup, and black sea bass fisheries.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

The meetings are physically accessible to people with disabilities. Requests for sign language interpretation or other auxiliary aids should be directed to M. Jan Bryan, (302) 674-2331 extension 18, at the Council Office at least 5 days prior to the meeting date.

Dated: October 26, 2009.
Tracey L. Thompson,
Acting Director, Office of Sustainable Fisheries, National Marine Fisheries Service.

[FR Doc. E9-26047 Filed 10-28-09; 8:45 am]

BILLING CODE 3510-22-S